ENVIRONMENTAL PROTECTION AGENCY

[ER-FRL-6698-2]

Environmental Impacts Statements; Notice of Availability

Responsible Agency: Office of Federal Activities, General Information (202) 564-7167 or http://www.epa.gov/compliance/nepa/.

Weekly receipt of Environmental Impact Statements

Filed 04/14/2008 Through 04/18/2008

Pursuant to 40 CFR 1506.9

EIS No. 20080147, Final EIS, AFS, MTTrapper Bunk House Land Stewardship Project, Reduce Risk from Stand-Replacing and Uncontrollable Fires, Improve Resiliency and Provide Forest Products, Fuel Reduction Research and Watershed Improvement, Bitterroot National Forest, Darby Ranger District, Ravalli County, MT, Wait Period Ends: 05/27/2008, Contact: Chuck Oliver 406-821-3913.

EIS No. 20080148, Final EIS, SFW, WI Trempealeau National Wildlife Refuge Comprehensive Conservation Plan, Implementation, located within the Mississippi River Valley, Buffalo and Trempealeau Counties, WI, Wait Period Ends: 05/27/2008, Contact: Victoria Hirschboeck 608-539-2311.

EIS No. 20080149, Final EIS, SFW, AZ Horseshoe and Bartlett Reservoirs Project, To Store and Release Water, Issuance of an Incidental Take Permit for Operation, Located Northeast of Phoenix, Maricopa and Yavapai Counties, AZ, Wait Period Ends: 05/27/2008, Contact: Debra Bills 602-242-0210.

EIS No. 20080150, Draft EIS, NOA, 00 Amendment 16 to the Fishery Management Plan for the Snapper Grouper Fishery, To End Overfishing of Gag and Vermillion Snapper, Implementation, South Atlantic Region, Comment Period Ends: 06/09/2008, Contact: Dr. Roy E. Crabtree 727-824-5301.

EIS No. 20080151, Second Final Supplement, AFS, CA Watdog Project, Additional Clarification of Changes Between the Final EIS (2005) and Final Supplement EIS (2007), Feather River Ranger District, Plumas National Forest, Butte and Plumas Counties, CA, Wait Period Ends: 05/27/2008, Contact: Carol Spinos 530-534-6500.

EIS No. 20080152, Final EIS, FRC, NC Yadkin—Yadkin-Pee Dee Hydro Electric Project (Docket Nos. P-2197-073 & P-2206-030), Issuance of New Licenses for the Existing and Proposed Hydropower Projects, Yadkin—Yadkin-Pee Dee Rivers, Davidson, Davie, Montgomery, Rowan, Stanly, Anson and Richmond Counties, NC, Wait Period Ends: 05/27/2008, Contact: Stephen Bowler 202-502-6861.

EIS No. 20080153, Draft Supplement, NOA, 00 Snapper Grouper Amendment 15B, Fishery Management Plan, Updated Information on the Economic Analysis for the Bag Limit Sales Provision, Update Management Reference Point for Golden Tilefish (Lopholatilus chamaeleonticeps); Define Allocations for Snowy Grouper (Epinephelus niveatus) and Red Porgy (Pagrus pagrus), NC, SC, FL, and GA, Comment Period Ends: 06/09/2008, Contact: Dr. Roy E. Crabtree 727-824-5305.

EIS No. 20080154, Draft EIS, FHW, MD US 50 Crossing Study, Transportation Improvement from MD-611 to MD 378; and 3rd Street to Somerset Street, Funding, U.S. Coast Guard, U.S. Army COE Section 10 and 404 Permits, Worcester County, MD, Comment Period Ends: 06/30/2008, Contact: Denise King 410-779-7145.

Amended Notices

EIS No. 20080072, Draft EIS, IBR, CO Southern Delivery System Project, Water Supply Development, Execution of up to 40-year Contracts for Use of Fryingpan-Arkansas Project Facilities, Special Use Permit, El Paso County, CO, Comment Period Ends: 04/29/2008, Contact: Kara Lamb 970-663-3212.

Revision of FR Notice Published 02/29/2008: Extending Comment Period from 04/29/2008 to 06/13/2008.

Dated: April 22, 2008.
Robert W. Hargrove,
Director, NEPA Compliance Division, Office of Federal Activities.

[FR Doc. E8-9075 Filed 4-24-08; 8:45 am]

BILLING CODE 6560-50-P